DEPARTMENT OF TRANSPORTATION

National Highway Traffic Safety Administration

[Docket No. NHTSA-2012-0144; Notice 1]

General Motors, LLC, Receipt of Petition for Decision of Inconsequential Noncompliance

AGENCY: National Highway Traffic Safety Administration (NHTSA), Department of Transportation (DOT).

ACTION: Receipt of petition.

SUMMARY: General Motors, LLC (GM) ¹ has determined that certain model year 2013 Chevrolet Malibu passenger cars manufactured between June 21, 2011 and July 24, 2012, do not fully comply with paragraphs S3.1.4.1(a) and (b) of Federal Motor Vehicle Safety Standard (FMVSS) No. 102, Transmission Shift Position Sequence, Starter Interlock, and Transmission Braking Effect. GM has filed an appropriate report dated August 3, 2012, pursuant to 49 CFR part 573, Defect and Noncompliance Responsibility and Reports.

¹ General Motors, LLC, is a manufacturer of motor vehicles and is registered under the laws of the state of Michigan.

DATES: October 30, 2013.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's Petition

Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 23,910 ² 2013 Chevrolet Malibu passenger cars that GM no longer controlled at the time it determined that the noncompliance existed.

² GM's petition, which was filed under 49 CFR part 556, requests an agency decision to exempt GM as a motor vehicle manufacturer from the notification and recall responsibilities of 49 CFR part 573 for the affected 2013 Chevrolet Malibu passenger cars. However, a decision on this petition cannot relieve vehicle distributors and dealers of the prohibitions on the sale, offer for sale, introduction or delivery for introduction into interstate commerce of the noncompliant motor vehicles under their control after GM notified them that the subject noncompliance existed.

II. Vehicles Involved

Affected are approximately 23,910 model year 2013 Chevrolet Malibu passenger cars manufactured between June 21, 2011 and July 24, 2012.

III. Noncompliance

GM explains that the noncompliance is that in the subject vehicles, because the primary shift lever position backlight in the console shift indicator can fail to illuminate, the transmission shift position selected in relation to the other gears is not always provided under the required conditions specified in S3.1.4.1 (a) and (b).

IV. Rule Text

Paragraph S3.1.4.1 (a) and (b) of FMVSS No. 102 specifically states:

S3.1.4 Identification of shift positions and of shift position sequence.

S3.1.4.1 Except as specified in S3.1.4.3, if the transmission shift position sequence includes a park position, identification of shift positions, including the positions in relation to each other and the position selected, shall be displayed in view of the driver whenever any of the following conditions exist:

(a) The ignition is in a position where the transmission can be shifted; or

(b) The transmission is not in park.

V. Summary Of GM's Analysis and Arguments

GM stated its belief that the subject noncompliance is inconsequential to motor vehicle safety for the following reasons:

1. There is minimal risk that the operator will shift the vehicle out of park without being aware that the transmission shift position sequence display is not illuminated since the condition can only be initiated at key-up (engine crank). The condition cannot be initiated while driving.

2. The condition corrects on the next ignition cycle. Throughout our investigation it never repeated on consecutive ignition cycles.

3. The gear selected is always provided in a redundant display located in the instrument panel (IP) cluster.

a. The up-level IP cluster is utilized in 85% of the vehicle production and displays the gear selected in relation to the other gears for 3 seconds whenever the vehicle is shifted. After 3 seconds the IP cluster displays only the gear selected.

b. 15% of production has the base IP cluster which displays only the gear selected.

4. The system is designed to minimize the risk that the operator will shift to an unintended gear.

a. When shifting, a secondary motion (button push on shifter) is required to help prevent mis-shift. A button on the shift lever must be depressed when shifting from:

i. PARK to any other gear:

ii. REVERSE to any other gear: or

iii. DRIVE to PARK or REVERSE

b. NEUTRAL gear selection from DRIVE does not require a secondary motion (button push on shifter), making location of NEUTRAL easier in a panic situation.

c. The gear selected is provided as a secondary display in the IP cluster and the shifter in the subject vehicle utilizes a linear shift pattern (used on US vehicles for more than 50 years). Since the relationship between PARK, REVERSE, NEUTRAL and DRIVE is well understood by the driving public, this should assist the operator in determining the shift lever's position in relationship to the other gear positions even when not illuminated.

d. Brake Transmission Shift Interlock (BTSI) helps to assure the driver is not caught unaware when shifting from PARK since the operator must first apply the brake.

e. On the subject vehicles miss-shifting is prevented while the vehicles are in motion. At speeds above 10 MPH, shifting from DRIVE to REVERSE or PARK; or shifting from REVERSE to PARK or DRIVE, is electronically inhibited.

5. The frequency of the condition occurring is rare and random.

a. As of 25 July 2012, there were only ten reported incidents which occurred on seven of 285 captured test fleet (CTF) vehicles. The condition was reported twice on two of the CTF vehicles and did not occur on consecutive ignition cycles.

b. During the investigation, it took more than a week of testing during which approximately 1000 ignition cycles were conducted on each of four CTF vehicles reported to have the condition in order to recreate the occurrence.

c. Warranty claims as of 25 July 2012

i. US Warranty 3 of 8,573 vehicles

ii. China Warranty 2 of 11,872 vehicles

iii. Korea Warranty 3 of 4,968 vehicles

d. None of the Warranty claims or CTF reports indicated that the operator had experienced a mis-shift condition.

e. No claims were discovered related to injury or crash.

f. As of August 1, 2012, GM found no Vehicle Owner's Questionnaires (VOQs) resulting from the subject condition during its search of the NHTSA database.

6. GM stated its belief that NHTSA granted a similar petition in the past.

GM has additionally informed NHTSA that it has corrected the noncompliance so that all future production will comply with FMVSS No. 102.

In summation, GM believes that the described noncompliance of the subject vehicles is inconsequential to motor vehicle safety, and that its petition, to exempt from providing recall notification of noncompliance as required by 49 U.S.C. 30118 and remedying the recall noncompliance as required by 49 U.S.C. 30120 should be granted.

Authority: (49 U.S.C. 30118, 30120: delegations of authority at 49 CFR 1.95 and 501.8)

Claude H. Harris,
Director, Office of Vehicle Safety Compliance.

[FR Doc. 2013-23663 Filed 9-27-13; 8:45 am]

BILLING CODE 4910-59-P